ELECTION ASSISTANCE COMMISSION

Publication of State Plans Pursuant to the Help America Vote Act

AGENCY: Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plans previously submitted by Pennsylvania.

DATES: This notice is effective upon September 30, 2005.

FOR FURTHER INFORMATION CONTACT: Bryan Whitener, Telephone 202-566-3100 or 1-866-747-1471 (toll-free).

Submit Comments: Any comments regarding the plans published herewith should be made in writing to the chief election official of the individual States at the address listed below.

SUPPLEMENTARY INFORMATION:

On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates. EAC published Pennsylvania's first update to its State plan in the Federal Register on September 30, 2004. 69 FR 58630.

The current submission from Pennsylvania addresses three material changes to the administration of their previously submitted State plans. The document updates information on the State's approach to voter verified paper ballots and voter verified paper audit trails, accounts for the distribution of interest earned on federal funds, and clarifies funding available to counties that must replace their voting systems. The document also provides information on how the State succeeded in carrying out the previous State plan, in accordance with HAVA section 254(a)(12).

Upon the expiration of thirty days from September 30, 2005, Pennsylvania will be eligible to implement the material changes addressed in the plan that is published herein, in accordance with HAVA section 254(a)(11)(C).

EAC notes that the plan published herein has already met the notice and comment requirements of HAVA section 256, as required by HAVA section 254(a)(11)(B). EAC wishes to acknowledge the effort that went into the revising the State plans and encourages further public comment, in writing, to the State election official of the individual States listed below.

Chief State Election Officials

Pennsylvania

The Honorable Pedro A. Cortés, Secretary of the Commonwealth, Department of State, 302 North Office Building, Harrisburg, PA 17120, Phone: 717-787-6458, Fax: 717-787-1734, E-mail: patriwili@state.pa.us.

Thank you for your interest in improving the voting process in America.

Dated: September 23, 2005.
Gracia M. Hillman,
Chair, U.S. Election Assistance Commission.

BILLING CODE 6820-KF-P

[FR Doc. 05-19440 Filed 9-29-05; 8:45 am]

BILLING CODE 6820-KF-C